ENVIRONMENTAL PROTECTION AGENCY

[FRL-7273-2]

EPA Science Advisory Board Staff Office Invitation to a Session on Public Involvement in EPA Science Advisory Board Activities

SUMMARY: The EPA Office of the Science Advisory Board (SAB) is inviting members of the public to register and attend a public session on public involvement in SAB Activities or to contribute information on that topic by email for persons unable to attend.

The session will be held at the Hotel Washington at 515 15th Street, NW., Washington, DC 20004 on September 26, 2002 from 9:30 a.m. to 3 p.m.. The session is open to members of the public who register in advance. However, due to limited space, participation will be on a first-come basis. For further information concerning the meeting, registration procedures, or how to contribute information to the EPA Science Advisory Board Staff Office on the subject of the meeting, please see below.

Purpose and Background: This session is the first in a series of semi-annual sessions that the Office of the EPA SAB Staff plans to hold with the public as part of its effort to continuously improve policies and procedures at the Board. The purpose of the sessions is to hear public concerns and suggestions for additional improvements in SAB policies and procedures. The EPA SAB Staff Office will consider these concerns and suggestions as it develops guidance and plans for the Staff Office and as it supports the Board. The SAB Staff Office will report on public concerns and suggestions to the EPA SAB's Policies and Procedures Subcommittee, as appropriate.

The SAB was established by Congress in 1978 by the Environmental Research, Development, and Demonstration Authorization Act (ERDDAA) (42 U.S.C. 4365). Since that time, the EPA Staff Office, has reported directly to the Administrator and has supported the work of the SAB. Composed of non-Federal government experts, the SAB provides the Administrator with outside, independent advice on scientific, engineering, economics, and social sciences issues that impact the technical basis for EPA positions, including regulations, guidance, and research plans. Generally, the SAB does not address policy aspects of problems confronting the Agency, since such matters are the jurisdiction and responsibility of the EPA Administrator.

The SAB conducts its business in public view and benefits from public input during its deliberations. Through these public proceedings, Agency positions are subjected to critical examination by leading experts in various fields who serve on SAB Committees and Panels. By statute, the Board is subject to the provisions of the Federal Advisory Committee Act that require public access and public input into the advisory processes.

In addition, the EPA SAB Staff Office is holding this meeting to improve processes for public access and public input, as part of the Agency's overall efforts to implement its Draft Public Involvement Policy (65 FR 82335-82345, December 28, 2000). Consistent with that policy, the SAB Staff Office recognizes that it serves the general public, because every person living in the United States is an ultimate beneficiary of EPA actions to protect public health and the environment when those actions draw upon SAB advice. Thus the Staff Office invites written comments (details provided below on how to submit those comments) from individuals unable to attend the September 26, 2002 session.

Specific Format and Topics for the September 26, 2002 Session. A draft agenda for the session will be posted on the SAB website on or about September 6, 2002. The session will include a plenary session that will report on recent efforts to strengthen the SAB's panel formation process and will also orient participants to the two major topics for discussion: “Public Involvement in SAB Meetings and Report Development” and the “SAB's Public Access Web site” (http://www.epa.gov/sab). Break-out sessions will then follow and allow participants to ask questions and provide input on these two major topics.

At the break-out session on Public Involvement in SAB Meetings and Report Development, topics to be covered will include: participants' views of the most valuable aspects of the current process and participants' suggestions for additions or changes to the process.

At the break-out session on the SAB's Public Access Web site (http://www.epa.gov/sab), topics will include: Participants' views of the most valuable features and participants' suggestions for features or functions to add or change.

Participants in the September 26, 2002 session will have the opportunity to participate in both break-out sessions.

The last part of the agenda will allow participants to identify topics for future sessions being planned by the EPA SAB Staff Office.

Registration for the September 26, 2002 Session. Persons wishing to register must send the following information by September 19, 2002 to Ms. Diana Pozun, Program Specialist, EPA Science Advisory Board at pozun.diana@epa.gov: Name, Title, Organization, telephone number, fax number, email.

Provision of Written Comments by Individuals Unable to Attend the September 26, 2002 Session. Persons unable to attend the public meeting who wish to provide written comments on the specific topics identified above may send those comments to Dr. Angela Nugent of the Science Advisory Board Staff by email at nugent.angela@epa.gov. Written comments received prior to noon Eastern time on September 25, 2002 will be included in the discussion at the public session.

FOR FURTHER INFORMATION: Members of the public desiring additional information about the session on September 26, 2002, must contact Dr. Angela Nugent, Special Assistant to the Director, EPA Science Advisory Board (1400A), Suite 6450, U.S. EPA, 1200 Pennsylvania Avenue, NW., Washington, DC 20460; telephone (202) 564-4562; FAX (202) 501-0323; or via e-mail at nugent.angela@epa.gov. Information on meeting logistics can be obtained from Ms. Diana Pozun, Program Specialist, EPA Science Advisory Board (1400A), Suite 6450, U.S. EPA, 1200 Pennsylvania Avenue, NW., Washington, DC 20460; telephone/voice mail at (202) 564-4533; fax at (202) 501-0323; or via e-mail at pozun.diana@epa.gov.

Meeting Access: Individuals requiring special accommodation at this meeting, including wheelchair access to the conference room, should contact Ms. Pozun at least five business days prior to the meeting so that appropriate arrangements can be made.

Dated: August 29, 2002.
Vanessa T. Vu,
Director, EPA Science Advisory Board Staff Office.

[FR Doc. 02-22609 Filed 9-4-02; 8:45 am]

BILLING CODE 6560-50-P